DEPARTMENT OF HEALTH AND HUMAN SERVICES

Food and Drug Administration

[Docket No. FDA-2012-N-0001]

Standards for Private Laboratory Analytical Packages and Introduction to Laboratory Related Portions of the Food Modernization Safety Act for Private Laboratory Managers

AGENCY: Food and Drug Administration, HHS.

ACTION: Notice of meetings.

The Food and Drug Administration (FDA) is announcing two meetings entitled “Standards for Private Laboratory Analytical Packages and Introduction to Laboratory Related Portions of the Food Modernization Safety Act for Private Laboratory Managers.” The topic to be discussed is the quality standards expected in all analytical packages and an introduction to sections of the Food Safety Modernization Act of January 6, 2011, that affect laboratories.

Date and Time: The meetings will be held on April 3, 2012, from 1 p.m. to 4:30 p.m. in Bothell, WA, and on April 5, 2012, from 1 p.m. to 4:30 p.m. in Oakland, CA.

Location: The meeting in Bothell, WA, will be held at the FDA Seattle District Office, 22201 23rd Dr. SE., Bothell, WA 98021. The Oakland, CA, meeting will be held in the R. Dellums Federal Building, Conference Room A/B, 2nd Floor North, 1301 Clay St., Oakland, CA 94612.

Contact: R.V. Asmundson, Food and Drug Administration, 1301 Clay St., Suite 1180N, Oakland, CA 94612-5217, 510-287-2715, FAX: 510-287-3739, email: rod.asmundson@fda.hhs.gov. Registration: Send registration information (including name, title, firm name, address, telephone, FAX, and email) to the contact person by March 27, 2012.

If you need special accommodations due to a disability, please contact Nguyen Ngoc-Lan (nguyen.ngoc-lan@fda.hhs.gov) for the Bothell, WA, meeting or Bernadette Thiry (bthiry@mmcor.com) for the Oakland, CA, meeting by March 27, 2012.

Dated: March 16, 2012.
Leslie Kux,
Acting Assistant Commissioner for Policy.

[FR Doc. 2012-6800 Filed 3-20-12; 8:45 am]

BILLING CODE 4160-01-P